DEPARTMENT OF ENERGY

Federal Energy Regulatory Commission

[Docket No. AD07-15-000]

State of the Natural Gas Industry Conference; Notice of Commission Conference

October 5, 2007.

The Federal Energy Regulatory Commission will hold a conference on November 6, 2007, from 9:30 a.m. to 12:30 p.m. (EST), in the Commission Meeting Room on the second floor of the offices of the Federal Energy Regulatory Commission, 888 First Street, NE., Washington, DC.

All interested persons may attend; there is no registration and no fee.

The conference will provide the Commission the opportunity to hear from knowledgeable industry experts and discuss the challenges facing the natural gas industry and its customers. A future notice will provide greater detail.

Transcripts of the conference will be immediately available from Ace Reporting Company (202-347-3700 or 1-800-336-6646) for a fee. Additionally, Capitol Connection offers the opportunity for remote listening and viewing of the conference. It is available for a fee, live over the Internet, by phone, or via satellite. Persons interested in receiving the broadcast, or who need information on making arrangements should contact David Reininger or Julia Morelli at the Capitol Connection (703-993-3100) as soon as possible or visit the Capitol Connection Web site at http://www.capitolconnection.gmu.edu and click on “FERC.”

FERC conferences are accessible under section 508 of the Rehabilitation Act of 1973. For accessibility accommodations please send an e-mail to accessibility@ferc.gov or call toll free 866-208-3372 (voice) or 202-208-1659 (TTY), or send a FAX to 202-208-2106 with the required accommodations. Additional details and the agenda for this conference will be included in a subsequent notice. For more information about the conference, please contact John Schnagl at (202) 502-8756 (john.schnagl@ferc.gov).

Kimberly Bose,
Secretary.

[FR Doc. E7-20299 Filed 10-15-07; 8:45 am]

BILLING CODE 6717-01-P